DEPARTMENT OF TRANSPORTATION

Federal Aviation Administration

14 CFR Part 97

[Docket No. 31297; Amdt. No. 3892]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective February 24, 2020. The compliance date for each SIAP, associated Takeoff Minimums, and ODP is specified in the amendatory provisions.

The incorporation by reference of certain publications listed in the regulations is approved by the Director of the Federal Register as of February 24, 2020.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA). For information on the availability of this material at NARA, email fedreg.legal@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore— (1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on February 7, 2020.
Rick Domingo,
Executive Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

§§ 97.23, 97.25, 97.27, 97.29, 97.31, 97.33 and 97.35 [Amended]

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
26-Mar-20 | WI | Mosinee | Central Wisconsin | 0/0106 | 1/16/20 | RNAV (GPS) RWY 26, Amdt 1C.
26-Mar-20 | IL | Peoria | General Downing-Peoria Intl | 0/1429 | 2/3/20 | RNAV (GPS) RWY 13, Amdt 1A.
26-Mar-20 | IL | Peoria | General Downing-Peoria Intl | 0/1430 | 2/3/20 | RNAV (GPS) RWY 22, Amdt 1B.
26-Mar-20 | IL | Peoria | General Downing-Peoria Intl | 0/1431 | 2/3/20 | RNAV (GPS) RWY 31, Amdt 1B.
26-Mar-20 | IL | Peoria | General Downing-Peoria Intl | 0/1432 | 2/3/20 | VOR/DME OR TACAN RWY 31, Amdt 9.
26-Mar-20 | IL | Peoria | General Downing-Peoria Intl | 0/1433 | 2/3/20 | VOR OR TACAN RWY 13, Amdt 23C.
26-Mar-20 | IL | Peoria | General Downing-Peoria Intl | 0/1434 | 2/3/20 | ILS OR LOC RWY 13, Amdt 6G.
26-Mar-20 | IL | Peoria | General Downing-Peoria Intl | 0/1435 | 2/3/20 | ILS OR LOC RWY 31, Amdt 7C.
26-Mar-20 | IL | Peoria | General Downing-Peoria Intl | 0/1438 | 2/3/20 | NDB RWY 31, Amdt 15B.
26-Mar-20 | IL | Peoria | General Downing-Peoria Intl | 0/1440 | 2/3/20 | ILS OR LOC RWY 4, Amdt 3.
26-Mar-20 | IL | Peoria | General Downing-Peoria Intl | 0/1441 | 2/3/20 | RNAV (GPS) RWY 4, Amdt 2.
26-Mar-20 | PA | East Stroudsburg | Stroudsburg-Pocono | 0/1824 | 1/17/20 | VOR/DME-A, Amdt 6.
26-Mar-20 | MN | Albert Lea | Albert Lea Muni | 0/1832 | 2/3/20 | VOR RWY 17, Amdt 1A.
26-Mar-20 | TX | Dallas-Fort Worth | Dallas-Fort Worth Intl | 0/2242 | 1/16/20 | ILS OR LOC RWY 17C, ILS RWY 17C (CAT II AND III), Amdt 11A.
26-Mar-20 | IL | Olney-Noble | Olney-Noble | 0/2261 | 1/16/20 | LOC RWY 11, Amdt 6.
26-Mar-20 | IL | Olney-Noble | Olney-Noble | 0/2262 | 1/16/20 | RNAV (GPS) RWY 11, Amdt 1B.
26-Mar-20 | TX | Corsicana | C David Campbell Field-Corsicana Muni | 0/2722 | 1/22/20 | NDB RWY 14, Amdt 4C.
26-Mar-20 | TX | Corsicana | C David Campbell Field-Corsicana Muni | 0/2723 | 1/22/20 | NDB RWY 32, Amdt 3C.
26-Mar-20 | TX | Corsicana | C David Campbell Field-Corsicana Muni | 0/2724 | 1/22/20 | VOR/DME-A, Amdt 1C.
26-Mar-20 | VT | Barre/Montpelier | Edward F Knapp State | 0/2749 | 1/24/20 | VOR RWY 35, Amdt 4.
26-Mar-20 | CA | Upland | Cable | 0/3513 | 1/21/20 | VOR-A, Orig-B.
26-Mar-20 | ME | Princeton | Princeton Muni | 0/4293 | 1/17/20 | RNAV (GPS) RWY 15, Amdt 1C.
26-Mar-20 | OR | Salem | Mcnary Fld | 0/4544 | 1/16/20 | RNAV (GPS) RWY 31, Amdt 3C.
26-Mar-20 | VA | Richmond/Ashland | Hanover County Muni | 0/4867 | 1/22/20 | LOC RWY 16, Amdt 3D.
26-Mar-20 | WI | Reedsburg | Reedsburg Muni | 0/4868 | 1/23/20 | RNAV (GPS) RWY 18, Orig-A.
26-Mar-20 | IL | Pittsfield | Pittsfield Penstone Muni | 0/4872 | 1/22/20 | VOR RWY 13, Amdt 4A.
26-Mar-20 | IL | Pittsfield | Pittsfield Penstone Muni | 0/4873 | 1/22/20 | RNAV (GPS) RWY 31, Orig-A.
26-Mar-20 | TX | Dallas | Mckinney National | 0/5464 | 1/22/20 | VOR/DME-A, Amdt 2A.
26-Mar-20 | TX | Dallas | Mckinney National | 0/5465 | 1/22/20 | RNAV (GPS) RWY 18, Amdt 2B.
26-Mar-20 | TX | Dallas | Mckinney National | 0/5466 | 2/3/20 | ILS OR LOC RWY 18, Amdt 6.
26-Mar-20 | MA | Worcester | Worcester Rgnl | 0/5468 | 1/22/20 | RNAV (GPS) RWY 33, Orig-B.
26-Mar-20 | MA | Worcester | Worcester Rgnl | 0/5469 | 1/22/20 | ILS OR LOC RWY 29, Amdt 4C.
26-Mar-20 | IN | Indianapolis | Eagle Creek Airpark | 0/5629 | 1/23/20 | VOR-A, Amdt 7.
26-Mar-20 | IN | Indianapolis | Eagle Creek Airpark | 0/5641 | 1/23/20 | RNAV (GPS) RWY 21, Amdt 1A.
26-Mar-20 | ND | Hazen | Mercer County Rgnl | 0/6297 | 1/29/20 | RNAV (GPS) RWY 14, Amdt 1.
26-Mar-20 | ND | Hazen | Mercer County Rgnl | 0/6298 | 1/29/20 | RNAV (GPS) RWY 32, Amdt 1.
26-Mar-20 | VT | Barre/Montpelier | Edward F Knapp State | 0/6355 | 1/24/20 | RNAV (GPS) RWY 35, Amdt 1A.
26-Mar-20 | VT | Barre/Montpelier | Edward F Knapp State | 0/6358 | 1/24/20 | RNAV (GPS) RWY 17, Amdt 1.
26-Mar-20 | VT | Barre/Montpelier | Edward F Knapp State | 0/6359 | 1/24/20 | ILS OR LOC RWY 17, Amdt 7.
26-Mar-20 | WI | Milwaukee | General Mitchell Intl | 0/6531 | 1/24/20 | ILS OR LOC RWY 19R, Amdt 13.
26-Mar-20 | WI | Milwaukee | General Mitchell Intl | 0/6534 | 1/24/20 | RNAV (GPS) Z RWY 7R, Amdt 1E.
26-Mar-20 | WI | Milwaukee | General Mitchell Intl | 0/6535 | 1/24/20 | RNAV (GPS) Z RWY 25L, Amdt 1D.
26-Mar-20 | WI | Milwaukee | General Mitchell Intl | 0/6537 | 1/24/20 | RNAV (GPS) RWY 19R, Amdt 2B.
26-Mar-20 | GA | Augusta | Daniel Field | 0/6538 | 1/24/20 | NDB RWY 11, Amdt 4A.
26-Mar-20 | GA | Augusta | Daniel Field | 0/6565 | 1/24/20 | VOR/DME-B, Amdt 1A.
26-Mar-20 | WI | Ashland | John F Kennedy Memorial | 0/6649 | 2/3/20 | RNAV (GPS) RWY 2, Amdt 1A.
26-Mar-20 | OH | Lebanon | Warren County/John Lane Field | 0/6666 | 1/24/20 | RNAV (GPS) RWY 19, Amdt 4.
26-Mar-20 | VA | West Point | Middle Peninsula Rgnl | 0/6696 | 1/24/20 | RNAV (GPS) RWY 10, Amdt 1A.
26-Mar-20 | GU | Guam | Guam Intl | 0/6701 | 1/24/20 | RNAV (GPS) Y RWY 6R, Amdt 1B.
26-Mar-20 | GA | Dublin | W H `Bud' Barron | 0/6702 | 1/24/20 | ILS OR LOC RWY 2, Amdt 2D.
26-Mar-20 | IN | Indianapolis | Indianapolis Metropolitan | 0/6703 | 1/24/20 | NDB RWY 15, Amdt 2B.
26-Mar-20 | IN | Indianapolis | Indianapolis Metropolitan | 0/6704 | 1/24/20 | RNAV (GPS) RWY 33, Amdt 1A.
26-Mar-20 | IN | Indianapolis | Indianapolis Metropolitan | 0/6705 | 1/24/20 | VOR RWY 33, Amdt 10C.
26-Mar-20 | CQ | Tinian Island | Tinian Intl | 0/6707 | 1/24/20 | RNAV (GPS) RWY 8, Amdt 1.
26-Mar-20 | CQ | Tinian Island | Tinian Intl | 0/6709 | 1/24/20 | RNAV (GPS) RWY 26, Amdt 1.
26-Mar-20 | NJ | Pittstown | Sky Manor | 0/6715 | 1/24/20 | VOR RWY 7, Amdt 3A.
26-Mar-20 | WI | Madison | Dane County Rgnl-Truax Field | 0/6983 | 1/27/20 | VOR RWY 14, Orig-E.
26-Mar-20 | WI | Madison | Dane County Rgnl-Truax Field | 0/6984 | 1/27/20 | VOR RWY 21, Orig.
26-Mar-20 | WI | Madison | Dane County Rgnl-Truax Field | 0/6985 | 1/27/20 | VOR RWY 32, Amdt 1A.
26-Mar-20 | WI | Madison | Dane County Rgnl-Truax Field | 0/6986 | 1/27/20 | VOR RWY 36, Orig-A.
26-Mar-20 | WI | Madison | Dane County Rgnl-Truax Field | 0/6987 | 1/27/20 | VOR RWY 18, Amdt 1C.
26-Mar-20 | IL | Effingham | Effingham County Memorial | 0/7667 | 1/29/20 | RNAV (GPS) RWY 11, Orig.
26-Mar-20 | IL | Effingham | Effingham County Memorial | 0/7709 | 1/29/20 | VOR RWY 1, Amdt 10C.
26-Mar-20 | IL | Effingham | Effingham County Memorial | 9/0619 | 1/16/20 | RNAV (GPS) RWY 1, Orig-C.
26-Mar-20 | IL | Effingham | Effingham County Memorial | 9/0620 | 1/16/20 | RNAV (GPS) RWY 29, Orig-B.
26-Mar-20 | KY | Hazard | Wendell H Ford | 9/1294 | 1/17/20 | RNAV (GPS) RWY 14, Amdt 1C.
26-Mar-20 | KY | Hazard | Wendell H Ford | 9/1295 | 1/17/20 | RNAV (GPS) RWY 32, Orig-C.
26-Mar-20 | TX | Odessa | Odessa-Schlemeyer Field | 9/1859 | 1/16/20 | RNAV (GPS) RWY 20, Orig.
26-Mar-20 | TX | Odessa | Odessa-Schlemeyer Field | 9/1860 | 1/16/20 | RNAV (GPS) RWY 29, Orig.
26-Mar-20 | TX | Odessa | Odessa-Schlemeyer Field | 9/1866 | 1/16/20 | VOR-A, Amdt 7.
26-Mar-20 | NC | Greensboro | Piedmont Triad Intl | 9/2114 | 1/17/20 | ILS OR LOC RWY 23L, Amdt 9C.
26-Mar-20 | NC | Greensboro | Piedmont Triad Intl | 9/2116 | 1/17/20 | ILS OR LOC RWY 23R, Orig-C.
26-Mar-20 | NC | Greensboro | Piedmont Triad Intl | 9/2117 | 1/17/20 | RNAV (GPS) RWY 5L, Orig-C.
26-Mar-20 | NC | Greensboro | Piedmont Triad Intl | 9/2118 | 1/17/20 | RNAV (GPS) RWY 5R, Amdt 2D.
26-Mar-20 | NC | Greensboro | Piedmont Triad Intl | 9/2119 | 1/17/20 | RNAV (GPS) RWY 14, Amdt 2.
26-Mar-20 | NC | Greensboro | Piedmont Triad Intl | 9/2120 | 1/17/20 | RNAV (GPS) RWY 23L, Amdt 2C.
26-Mar-20 | NC | Greensboro | Piedmont Triad Intl | 9/2122 | 1/17/20 | RNAV (GPS) RWY 23R, Orig-C.
26-Mar-20 | NC | Greensboro | Piedmont Triad Intl | 9/2124 | 1/17/20 | VOR/DME RWY 23L, Amdt 10A.
26-Mar-20 | WI | Hayward | Sawyer County | 9/5774 | 1/17/20 | RNAV (GPS) RWY 3, Orig-E.
26-Mar-20 | AZ | Colorado City | Colorado City Muni | 9/6540 | 1/16/20 | RNAV (GPS) RWY 29, Orig.
26-Mar-20 | KS | Meade | Meade Muni | 9/7292 | 2/3/20 | RNAV (GPS) RWY 35, Orig-B.
26-Mar-20 | MI | Dowagiac | Dowagiac Muni | 9/8465 | 1/17/20 | Takeoff Minimums and Obstacle DP, Amdt 5.
26-Mar-20 | UT | Salt Lake City | South Valley Rgnl | 9/8595 | 1/16/20 | RNAV (GPS) RWY 34, Amdt 1.
26-Mar-20 | NE | Central City | Central City Muni-Larry Reineke Field | 9/9015 | 1/17/20 | RNAV (GPS) RWY 34, Orig-A.
26-Mar-20 | VT | Burlington | Burlington Intl | 9/9113 | 1/17/20 | RNAV (GPS) Y RWY 33, Orig-B.

[FR Doc. 2020-03279 Filed 2-21-20; 8:45 am]

BILLING CODE 4910-13-P